NATIONAL CREDIT UNION ADMINISTRATION

Notice of Change In Subject of Meeting; Sunshine Act Meeting

The National Credit Union Administration Board determined by unanimous vote to delete the following item from the previously announced open meeting (FR Vol. 68, No. 222, page 65089, November 18, 2003) scheduled for Thursday, November 20, 2003.

2. Advance Notice of Proposed Rulemaking: Interagency Proposal to Consider Alternative Forms of Privacy Notices.

Earlier announcement of this change was not possible.

FOR FURTHER INFORMATION CONTACT: Becky Baker, Secretary of the Board, Telephone (703) 518-6304.

Becky Baker,
Secretary of the Board.

[FR Doc. 03-29314 Filed 11-19-03; 2:03 pm]

BILLING CODE 7535-01-M